DEPARTMENT OF ENERGY

Western Area Power Administration

Big Stone II Power Plant and Transmission Project Draft Environmental Impact Statement (DOE/EIS-0377)

AGENCY: Western Area Power Administration, DOE.

ACTION: Notice of availability and public hearings.

SUMMARY: The Western Area Power Administration (Western), U.S. Department of Energy (DOE), Upper Great Plains Customer Service Region, and the Rural Utilities Service (RUS), U.S. Department of Agriculture, and U.S. Army Corps of Engineers (USACE), U.S. Department of Defense, as cooperating agencies, announce the availability of the Draft Big Stone II Power Plant and Transmission Project (Project) Environmental Impact Statement (EIS) for public review and comment. The draft EIS addresses the environmental impacts of constructing and operating the proposed Project. The National Environmental Policy Act (NEPA) requires Western to make the Draft EIS available to interested members of the public, groups, and Federal, state, local, and tribal agencies for review and comment to assure they have an opportunity to provide input to the Federal decision making process. Comments on the Draft EIS may be provided in writing or at one of three hearings scheduled during the review period.

DATES: Western invites the public to comment on the Draft EIS during the 45-day public review and comment period, which begins on May 19 and ends on July 3, 2006. Western will hold public hearings on:

1. June 13, 2006, 7 p.m., Big Stone City, SD.

2. June 14, 2006, 7 p.m., Morris, MN.

3. June 15, 2006, 7 p.m., Granite Falls, MN.

4. June 16, 2006, 7 p.m., Benson, MN.

ADDRESSES: The hearings will be held at:

1. BIG Stone City American Legion, Highway 12 West, Big Stone City, SD.

2. Best Western/Prairie Inn, 200 Highway 28 East, Morris, MN.

3. Minnesota West Community and Technical College, Granite Falls, MN.

4. Benson Golf Course, 2222 Atlantic Avenue, Benson, MN.

Written comments on the Draft EIS should be mailed, faxed, or e-mailed to: Ms. Nancy Werdel, NEPA Document Manager, Big Stone II EIS, A7400, Western Area Power Administration, P.O. Box 281213, Lakewood, CO 80228-8213, fax (720) 962-7263 or 7269, e-mail BigStoneEIS@wapa.gov,.

FOR FURTHER INFORMATION CONTACT: For further information or to request a copy or summary of the Draft EIS, please write Ms. Nancy Werdel, NEPA Document Manager, Big Stone II EIS, A7400, Western Area Power Administration, P.O. Box 281213, Lakewood, CO 80228-8213, fax (720) 962-7263 or 7269, e-mail BigstoneEIS@wapa.gov, or telephone her at (800) 336-7288.

For general information on DOE's NEPA review process, please contact: Carol M. Borgstrom, Director, Office of NEPA Policy and Compliance, EH-42, U.S. Department of Energy, Washington, DC 20585, (202) 586-4600 or (800) 472-2756.

SUPPLEMENTARY INFORMATION: Otter Tail Corporation (dba Otter Tail Power Company (OTP)), Central Minnesota Municipal Power Agency, Great River Energy (GRE), Heartland Consumers Power District (HCPD), Montana-Dakota Utilities Co., Southern Minnesota Municipal Power Agency and Western Minnesota Municipal Power Agency (dba Missouri River Energy Services (MRES)) (collectively referred to as the project co-owners) propose to construct and operate the Big Stone II 600-megawatt (MW) (net) coal-fired power plant and ancillary equipment and facilities in eastern South Dakota and up to 129 miles of new or upgraded transmission lines and substation modifications in South Dakota and Minnesota. the proposed plant would be built in response to growing base-load energy needs of the co-owners.

The proposed Big Stone II plant would be located adjacent to the existing Big Stone plant about 8 miles northeast of Milbank and 2 miles northwest of Big Stone City in Grant County, South Dakota. The existing Big Stone plant site was one of 38 sites identified by the co-owners as potential locations for the new power plant within South Dakota, North Dakota, and Minnesota. Based on independent analyses of the co-owners siting studies, Western determined that the Big Stone site was the only reasonable alternative for the proposed plant that meets the co-owners' needs and objectives to provide reliable, cost-effective base-load energy to the co-owner utilities.

Existing infrastructure, such as the cooling water intake structure, pumping system and delivery pipelines, coal delivery and handling facilities, solid waste disposal facilities, and water storage ponds would be used for the proposed Big Stone II plant. The existing rail and road facilities would be used to access the property and plant site. New construction would include the proposed plant, cooling tower blowdown pond, cooling tower, and make-up water storage pond. The proposed Big Stone II plan would use pulverized coal-fired, super-critical boiler technology and would burn low-sulfur, Power River Basin coal. The proposed plant would include a new Wet Flue Gas Desulfurization system to control air emissions from both the proposed Big Stone II plant and the existing Big Stone plant.

Substation modifications and associated transmission lines would also be constructed in South Dakota and Minnesota and interconnect to the southwestern Minnesota utility grid as part of the proposed Big Stone II Project. Two transmission alternatives have been identified. Alternative A would require construction and operation of a 230-kilovolt (kV) transmission line from Big Stone to Western's substation near Morris, Minnesota (Corridor A) and a 230-kV transmission line from Big Stone to Western's substation at Granite Falls, Minnesota (Corridors C or C1). Alternative B would require construction and operation of a 230-kV transmission line from Big Stone to a substation jointly owned by Willmar Municipal Utilities, Xcel Energy, and GRE at Willmar, Minnesota (Corridors B or B1), and a 230-kV transmission lime from Big Stone to Western's Granite Falls Substation (Corridors C or C1). Under both Alternative A and Alternative B, a portion of the transmission line in Corridor C or C1 from Big Stone Substation to Granite Falls Substation would be designed and constructed at 345-kV but operated at 230-kV. These alternatives would require modifications of existing transmission lines and/or construction of new transmission lines.

Existing substations would require modification or reconstruction to accept the interconnections to transfer the power from the proposed Big Stone II plant to the transmission system. Substations that would require modification include Morris Substation and the Johnson Junction Switching Station in Corridor A; Willmar Substation in Corridor B and B1; and Canby and Granite Falls substations in Corridor C and C1; and Big Stone Substation, which is adjacent to the existing Big Stone plant. Specific equipment modifications will be determined based on systems studies and final design. Other system modification may be required based on the outcome of final system studies expected in late spring 2006, and would be included in the Final EIS if impacts differed from those addressed in this document.

The Draft EIS evaluates the environmental impacts of the proposed Big Stone II plant, the transmission alternatives and the substation modifications on air quality, water resources (ground water, floodplains, surface water), geology, minerals, paleontological resources, soils biological resources (vegetation, wildlife, fisheries, special status species, wetland/riparian areas), cultural resources, Native American concerns, land use (land use planning, public facilities, recreation, agricultural practices and prime and unique farmland), infrastructure, public health, waste management, visual resources, noise, social and economic values, environmental justice, and cumulative impacts.

Additionally, the RUS must grant or deny a loan to GRE to finance its portion of the proposed Project. Also, the U.S. Army Corps of Engineers (USACE) must consider issuing a permit under Section 10 of the Rivers and Harbors Act and Section 404 of the Clean Water Act to the co-owners to construct the proposed Project within or across navigable waters and waters of the United States. Therefore, RUS and USACE are cooperating agencies on the EIS.

Western maintains a mailing list of those interested in the Big Stone II Project EIS. Copies of the complete Draft EIS or the Executive Summary have been distributed to all persons any groups on the mailing list that requested a copy. A distribution has been made to various libraries in the project are.

Oral comments on the Draft EIS will be accepted only during the public hearings scheduled for the dates and locations provided above. Those wishing to make oral comments may do so at the scheduled public hearings. Speakers will be asked to register at the door prior to the beginning of the hearing. Speakers are encouraged to provide a written version of their oral comments for the record. Each speaker will be allowed 5 minutes to present comments unless more time is requested and available. Comments will be recorded by a court reporter at each hearing and will become part of the public hearing record. Western will conduct open house information sessions 2 hours prior to each public hearing to field questions and provide information to the public.

Copies of the Draft EIS are available for public review at the offices and public libraries listed below:

Public Libraries

Ortonville Public Library, 412 Second Street Northwest, Ortonville, Minnesota.

Morris Public Library, 102 East 6th Street, Morris, Minnesota.

Granite Falls Public Library, 155 7th Avenue, Granite Falls, Minnesota.

Appleton Public Library, 322 W. Schlieman Avenue, Appleton, Minnesota.

Canby Public Library, 110 Oscar avenue North, Canby, Minnesota.

Willmar Public Library, 410 5th Street Southwest, Willmar, Minnesota.

Kerkhoven Public Library, 208 10th Street North, Kerkhoven, Minnesota.

Benson Public Library, 200 13th Street South, Benson, Minnesota.

Grant Public Library, 207 Park Avenue East, Milbank, South Dakota.

Watertown Regional Library, 611 Bruhn Avenue, NE., Watertown, South Dakota.

The Draft EIS is also available at DOE Reading Rooms at the following addresses: U.S. Department of Energy, Forrestal Building, Reading Room 1E-190, 1000 Independence Avenue, SW., Washington, DC 20585; Western Area Power Administration, Corporate Services Office, 12155 West Alameda Parkway, Lakewood, Colorado 80228; and Western Area Power Administration, Upper Great Plains Customer Service Region, South Dakota Maintenance Office, 200 4th Street, SW., Huron, South Dakota 57350.

MRES (Applicant), on behalf of the big Stone II Project co-owners has applied to Western to interconnect the proposed Project to Western's power transmission system. Additionally, MRES and HCPD have requested transmission service contract modifications to deliver power from the proposed Big Stone II plant to their service territories on Western's transmission system. Western must consider allowing the applicant an interconnection to Western's transmission system at the Morris and Granite Falls substations, including required modifications to these substations and other Western facilities, and decide to modify transmission service contracts with MRES and HCPD. The RUS must consider providing a loan to GRE to finance its portion of the proposed Project. The USACE must consider issuing a permit for Section 10 of the Rivers and Harbors Act of 1899 and Section 404 of the Clean Water Act to the co-owners for construction of the proposed Project within or across navigable waters and waters of the United States.

Western will consider all written comments postmarked or received during the public comment period in preparing the Final EIS. Decisions by each of the involved Federal agencies will be made after considering comments on the Draft and Final EIS. The decisions to be made by Western, RUS, and USACE regarding the proposed Big Stone II Power Plant and Transmission project will be issued following the Final EIS in the form of separate records of decision for each agency.

Dated: May 9, 2006.
Michael S. Hacskaylo,
Administrator.

[FR Doc. 06-4752 Filed 5-22-06; 8:45 am]

BILLING CODE 6450-01-M